DEPARTMENT OF ENERGY

Federal Energy Regulatory Commission

[Project No. 13709-000]

Osprey I, LLC; Notice of Preliminary Permit Application Accepted for Filing and Soliciting Comments, Motions To Intervene, and Competing Applications

April 29, 2010.

On April 9, 2010, Osprey I, LLC filed an application, pursuant to section 4(f) of the Federal Power Act, proposing to study the feasibility of the New Mills Dam Hydroelectric Project (New Mills Dam), to be located on the Cobbossecontee River in the Town of Gardiner, Kennebec County, Maine.

The proposed project would consist of: (1) An existing 12-foot-high, 91-foot-wide concrete dam with a 58-foot-wide spillway; (2) an existing 140-acre reservoir; (3) an existing powerhouse, penstock, and outlet structure; (4) new turbine generator units with a total installed capacity of 250 kilowatts (kW); (5) a new transmission line connecting to an existing Central Maine Power distribution line located 3,000 feet downstream of the dam; and (6) appurtenant facilities. The project would produce an estimated average annual generation of about 1,300 megawatt-hours, which would be sold directly to a local utility.

Applicant Contact: Mr. Hoon Won, 275 River Road, P.O. Box 202, Woolwich, Maine 04579, (207) 443-9747.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13709) in the docket number field to access the document. For assistance, call toll-free 1-866-208-3372.

Kimberly D. Bose,
Secretary.

[FR Doc. 2010-10639 Filed 5-5-10; 8:45 am]

BILLING CODE 6717-01-P